DEPARTMENT OF COMMERCE

National Oceanic and Atmospheric Administration

50 CFR Part 660

[Docket No. 120814338-2711-02]

RIN 0648-BD71

Magnuson-Stevens Act Provisions; Fisheries off West Coast States; Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: Effective 0001 hours (local time) December 3, 2013.

FOR FURTHER INFORMATION CONTACT: Gretchen Hanshew (West Coast Region, NMFS), phone: 206-526-6147, fax: 206-526-6736, gretchen.hanshew@noaa.gov.

SUPPLEMENTARY INFORMATION:

Electronic Access

This final rule is accessible via the Internet at the Office of the Federal Register's Web site at http://www.gpo.gov/fdsys/search/home.action. Background information and documents are available at the Pacific Fishery Management Council's Web site at http://www.pcouncil.org/.

Background

The PCGFMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

On November 14, 2012, NMFS published a proposed rule to implement the 2013-2014 harvest specifications and management measures for most species of the Pacific Coast groundfish fishery (77 FR 67974). The final rule to implement the 2013-2014 harvest specifications and management measures for most species of the Pacific Coast Groundfish Fishery was published on January 3, 2013 (78 FR 580).

The Council, in consultation with Pacific Coast Treaty Indian Tribes and the States of Washington, Oregon, and California, recommended changes to current groundfish management measures at its September 12-17 and October 30-November 6, 2013 meetings. Management measures are designed to meet two primary goals: To achieve, to the extent possible, but not exceed, annual catch limits (ACLs) of target species; and to foster the rebuilding of overfished stocks by keeping harvest within their rebuilding ACLs.

The Council recommended that NMFS issue surplus carryover pounds of petrale sole in the individual fishing quota (IFQ) program. NMFS continues to support our previous decision that surplus carryover pounds of petrale sole will not be issued due to risk of exceeding the 2013 ACL for this stock, which is currently in overfished status. This decision was previously outlined in a May 6, 2013 letter to the Council and no new information was provided that would change that decision.

Changes to Fishery Management Measures for the End of 2013

At its September 12-17 meeting, the Council recommended adjusting groundfish management measures for the end of 2013 to respond to updated fishery information and additional inseason management needs. Those changes to management measures are implemented in this action. The adjustments to fishery management measures are not expected to result in greater impacts to overfished species, except a very small increase in impacts to canary rockfish, than originally projected.

Limited Entry Fixed Gear and Open Access Sablefish Daily Trip Limit (DTL) Fishery Management Measures

Limited Entry Fixed Gear and Open Access Sablefish DTL Fisheries North of 36° N. Lat.

For the limited entry fixed gear and open access fixed gear sablefish DTL fisheries north of 36° N. lat. through the end of 2013, the Council considered increases to trip limits. The Council's Groundfish Management Team (GMT) made model-based landings projections for the limited entry fixed gear and open access fixed gear sablefish DTL fisheries north of 36° N. lat. for the remainder of the year. These projections were based on the most recent information available. The model predicted harvest of 82 percent (161 mt) of the limited entry fixed gear harvest guideline (197 mt) and 83 percent (241 mt) of the open access harvest guideline (291 mt) under current trip limits. With the increase in trip limits, predicted harvest is 91 percent (179 mt) of the limited entry fixed gear harvest guideline (197 mt) and 91 percent (265 mt) of the open access harvest guideline (291 mt).

Therefore, the Council recommended and NMFS is implementing trip limit changes for the limited entry fixed gear and the open access sablefish DTL fisheries north of 36° N. lat. The trip limits for sablefish in the limited entry fixed gear fishery north of 36° N. lat. increase from “1,110 lb (499 kg) per week, not to exceed 3,300 lb (1,497 kg) per two months” to “1,850 lb (839 kg) per week, not to exceed 5,500 lb (2,495 kg)” beginning December 3, 2013, through the end of the year.

The trip limits for sablefish in the open access sablefish DTL fishery north of 36° N. lat. are increased from “300 lb (136 kg) per day, or one landing per week of up to 800 lb (363 kg), not to exceed 1,600 lb (726 kg) per two months” to “300 lb (136 kg) per day, or one landing per week of up to 1,200 lb (544 kg), not to exceed 2,400 lb (1,089 kg) per two months” beginning December 3, 2013, through the end of the year.

Limited Entry Fixed Gear and Open Access Sablefish DTL Fisheries South of 36° N. Lat.

The Council recommended and NMFS is implementing a modest increase for the open access sablefish fishery trip limits south of 36° N. lat.

There is no formal allocation of sablefish between the limited entry fixed gear and open access sablefish daily trip limit (DTL) fisheries south of 36° N. lat. The Council designed 2013 trip limits for these two commercial groundfish non-trawl fisheries south of 36° N. lat. that were anticipated to allow slightly more overall harvest of sablefish by the limited entry fixed gear fishery. The 2013 trip limits were also designed so that, when catches in each sector are combined, total impacts of these two fisheries are anticipated to approach but not exceed the 2013 non-trawl allocation for sablefish south of 36° N. lat.

Catch of sablefish in the open access sablefish DTL fishery south of 36° N. lat. has been lower than anticipated. Based on the most recent fishery information, if no action is taken and catch remains lower than expected, landings of sablefish in this fishery through the end of the year would be 176 mt. This level of catch would be below the sablefish harvest target of 362 mt for the open access fishery by approximately 49 percent. Catch of sablefish in the limited entry fixed gear sablefish DTL fisheries south of 36° N. lat. has been within their harvest target.

The Council considered increases to trip limits in the open access sablefish DTL fishery south of 36° N. lat. to maintain fishing opportunities through the remainder of 2013, while keeping catch within the 2013 sablefish ACL for the area south of 36° N. lat.

Since projected catch in the open access sablefish DTL fishery south of 36° N. lat. had a large projected underage compared to their harvest target, the Council recommended an increase in the open access sablefish DTL fishery trip limits for the end of 2013. With this increase in sablefish trip limits for Period 6 (November-December) projected catch through the end of the year is 261 mt, or approximately 72 percent of the 2013 harvest target.

With this increase in trip limits for the open access sablefish DTL fishery, and retention of the current trip limits in the limited entry fixed gear sablefish DTL fishery, projected catches in these two fisheries combined is 688 mt, 120 mt below the 2013 non-trawl allocation for sablefish south of 36 N. lat. of 808 mt adjusted for discard mortality.

West Coast Groundfish Observer data indicate that impacts to overfished species in the commercial fixed gear sablefish fisheries south of 36° N. lat. are extremely low. Therefore, increases to trip limits to raise projected impacts closer to the 2013 sablefish non-trawl allocation and the ACL are not anticipated to result in changes to impacts to co-occurring overfished groundfish species.

Therefore, the Council recommended and NMFS is implementing an increase for the open access fishery trip limits south of 36° N. lat. from “300 lb (136 kg) per day, or 1 landing per week of up to 1,460 lb (662 kg), not to exceed 2,920 lb (1,325 kg) per 2 months” to “380 lb (172 kg) per day, or 1 landing per week of up to 1,800 lb (817 kg), not to exceed 3,800 lb (1,724 kg) per 2 months” beginning December 3, 2013, through the end of the year. Limited Entry Fixed Gear and Open Access Fishery Management Measures for Deeper Nearshore Rockfish South of 40°10′ N. lat.

The Council recommended and NMFS is implementing trip limit increases for deeper nearshore rockfish in the limited entry fixed gear and open access fishery south of 40°10′ N. lat.

The Council considered how catches in the nearshore fishery south of 40°10′ N. lat. have been well below the annual catch limit in recent years, and considered modest increases to allow additional harvest opportunities for deeper nearshore rockfish while keeping total catch within the applicable harvest guidelines.

Modest increases to the deeper nearshore rockfish trip limits in the limited entry fixed gear and open access fisheries in Period 6 (November-December) are not projected to increase impacts to most co-occurring overfished rockfish. Projected impacts to canary rockfish are anticipated to increase 0.1 mt, but total catch of canary rockfish in non-trawl fisheries through the end of the year (27.2 mt) are anticipated to stay well below the non-trawl allocation (46.0 mt).

Therefore, the Council recommended and NMFS is implementing trip limit changes for deeper nearshore rockfish in the limited entry fixed gear and open access fisheries south of 40°10′ N. lat.: from “900 lb (408 kg) per 2 months” to “1,000 lb (454 kg) per 2 months” in Period 6 (November-December).

Review of 2013-2014 Fisheries and Setting Management Measures for the Remainder of the Biennium

At its October 30-November 6, 2013 meeting, the Council recommended adjusting the biennial groundfish management measures for the remainder of the biennial period to respond to updated fishery information and other inseason management needs. The Council reviewed the 2013 commercial groundfish fisheries by considering: (1) The fishery management measures initially set for 2013, (2) modifications to management measures that were needed inseason for 2013, as new data became available throughout the 2013 season, and (3) retrospective total catch pattern data from the 2013 year-to-date.

The Council's goal in scrutinizing the 2013 groundfish fisheries was to develop a set of management measures for the remainder of the biennial period that would take into account new knowledge gained in 2013 to better structure the fisheries for the remainder of the 2013-2014 biennium. The improved structure of the initial 2014 management measures was designed to continue to keep total catch of managed species liberal enough to allow the catch of target species to approach, but not exceed, their 2014 ACLs, yet be conservative enough to reduce the need for inseason restrictions. The changes also allow the industry to plan for their 2014 fishing season(s) and ensure that management measures in place for the remainder of the biennial period reflect the best available science. If harvest of sablefish in 2014 is higher or lower than anticipated, the Council and NMFS may take action inseason during 2014 to adjust fishery management measures to allow the catch of target species to approach, but not exceed, their 2014 ACLs.

The adjustments to fishery management measures are not expected to result in greater impacts to overfished species than originally projected through the end of 2014.

Limited Entry Fixed Gear and Open Access Sablefish Daily Trip Limit (DTL) Fishery Management Measures

Based on the Council's goals in reviewing 2013 fishery data, as described above, the Council considered the various adjustments to fishery management measures in the limited entry fixed gear and open access fisheries that were necessary during the first ten months of the 2013-2014 biennium at its November 2013 meeting. The Council and its advisory bodies considered the most recent information on the status of 2013 fisheries and requests from industry and provided the following recommendations for inseason adjustments for the remainder of the biennium.

Limited Entry Fixed Gear and Open Access Sablefish DTL Fisheries North of 36° N. Lat.

At its June 2013 meeting, the Council took action to increase limits in the limited entry fixed gear and open access sablefish DTL fisheries north of 36° N. lat. The Council considered the most recent catch projections and recommended increases to trip limits in both fisheries to allow industry increased access to the fishery harvest guidelines and come closer to attaining, while not exceeding, the non-trawl fishery allocation for sablefish in 2013. As described above, at its September 2013 meeting the Council recommended a further increase to trip limits in this fishery for the end of 2013 because catch was still accruing slower than anticipated and, without changes to trip limits, harvest through the end of 2013 was anticipated to be well below the fishery harvest guideline.

At its November 2013 meeting, the Council considered stable (the same) trip limits for periods 1-6 for the limited entry fixed gear fisheries north of 36° N. lat. for 2014. Trip limits for 2014 were estimated by the GMT using landings projection models adjusted for discard mortality with the most recent available data. The updated trip limits that the Council considered for 2014 are anticipated to achieve, but not exceed, the fishery harvest guideline for sablefish in 2014. Furthermore, a stable trip limit approach for these fisheries will help provide consistency, safety, and predictability to fishing communities, and enable participants to plan in advance for their fishery.

West Coast Groundfish Observer data indicate that the trip limits recommended for periods 1-6 are not anticipated to increase projected impacts of co-occurring overfished groundfish species.

Therefore, the Council recommended, and NMFS is implementing, the following changes to trip limits for the limited entry fixed gear sablefish DTL fishery north of 36° N. lat.: change to “950 (431 kg) lb per week, not to exceed 2,850 (1,293 kg) lb per 2 months” in periods 1-6, on January 1, through the end of the year. Also, the Council recommended, and NMFS is implementing, the following changes to the open access sablefish DTL fishery trip limits north of 36° N. lat.: change to “300 lb (136 kg) per day, or 1 landing per week of up to 800 lb (363 kg), not to exceed 1,600 lb (726 kg) per 2 months” in periods 1-6, on January 1, through the end of the year.

Limited Entry Fixed Gear and Open Access Sablefish DTL Fisheries South of 36° N. Lat.

As described above catch in the sablefish DTL fisheries south of 36° N. Lat. was accruing slower than anticipated in 2013 and, without changes to trip limits, harvest through the end of 2013 was anticipated to be well below the non-trawl allocation adjusted for discard mortality.

The Council recommended, and NMFS is implementing, stable trip limits for periods 1-6 for the limited entry fixed gear and open access DTL fisheries south of 36° N. lat. for 2014. Appropriate trip limits for 2014 were estimated by the GMT using landings projection models adjusted for discard mortality with the most recent available data. A stable trip limit approach will help provide consistency, safety, and predictability to fishing communities, and enable participants to plan in advance for their fishery.

West Coast Groundfish Observer data indicate that the stable trip limits recommended for periods 1-6 are not anticipated to increase projected impacts of co-occurring overfished groundfish species.

Therefore, the Council recommended and NMFS is implementing the following changes to limited entry fixed gear trip limits south of 36° N. lat.: change to “2,000 (907 kg) lb per week” in periods 1-6, on January 1, through the end of the year. The Council also recommended and NMFS is implementing the following changes to open access fishery trip limits south of 36° N. lat.: change to “300 lb (136 kg) per day, or 1 landing per week of up to 1,600 lb (726 kg), not to exceed 3,200 lb (1,452 kg) per 2 months” in periods 1-6, on January 1, through the end of the year.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

For the following reasons, NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective December 3, 2013.

At the September Council meeting, the Council recommended trip limit changes for sablefish and deeper nearshore rockfish be implemented as quickly as possible during the November-December two-month cumulative limit period in 2013. At the November Council meeting, the Council recommended trip limit changes for sablefish be implemented January 1, 2014 or as quickly as possible thereafter. There was not sufficient time after these meetings to draft this document and undergo proposed and final rulemaking before these actions need to be in effect. For the actions to be implemented in this final rule, affording the time necessary for prior notice and opportunity for public comment would prevent NMFS from managing fisheries using the best available science to approach, without exceeding, the ACLs for federally managed species in accordance with the PCGFMP and applicable law. The adjustments to management measures in this document affect commercial fisheries in Washington, Oregon and California.

These adjustments to 2013 trip limits for sablefish and deeper nearshore rockfish must be implemented in a timely manner, as quickly as possible during the November-December two-month cumulative limit period: to allow limited entry fixed gear and open access fixed gear fishermen an opportunity to harvest their limits for sablefish without exceeding the 2013 ACL north of 36° N. lat. or the 2013 ACL south of 36° N. lat.; and to allow limited entry fixed gear and open access fixed gear fishermen to retain higher limits for deeper nearshore rockfish, without exceeding the ACL. These adjustments to 2014 management measures must be implemented in a timely manner, by January 1, 2014 or as quickly as possible thereafter: to allow limited entry fixed gear and open access fixed gear fishermen an opportunity to plan for and harvest their limits for sablefish without exceeding the 2014 ACL north of 36° N. lat. or the 2014 ACL south of 36° N. lat. These changes in the 2013 and 2014 limited entry fixed gear and open access fixed gear fisheries must be implemented in a timely manner so that fishermen are allowed increased opportunities to harvest available healthy stocks, and meet the objective of the Pacific Coast Groundfish FMP to allow fisheries to approach, but not exceed, ACLs. If this rule is not implemented immediately, the public could have incorrect information regarding allowed limited entry fixed gear and open access trip limits which would cause confusion and be inconsistent with the intent of the Council. It would be contrary to the public interest to delay implementation of these changes until after public notice and comment, because making this regulatory change by December 3, 2013, allows harvest as intended by the Council, consistent with the best scientific information available. These changes allow harvest in fisheries that are important to coastal communities and in a manner that prevents ACLs of overfished and target species from being exceeded.

No aspect of this action is controversial, and changes of this nature were anticipated in the biennial harvest specifications and management measures established for 2013-2014.

Delaying these changes would also keep management measures in place that are not based on the best available information. Such delay would impair achievement of the PCGFMP goals and objectives of managing for appropriate harvest levels while providing for year-round fishing and marketing opportunities.

Accordingly, for the reasons stated above, NMFS finds good cause to waive prior notice and comment and to waive the delay in effectiveness.

List of Subjects in 50 CFR Part 660

Fisheries, Fishing, Indian Fisheries.

Dated: November 29, 2013.
Karen Abrams,
Acting Deputy Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Tables 2 (North) and 2 (South) to part 660, subpart E are revised to read as follows:

BILLING CODE 3510-22-P

3. Tables 3 (North) and 3 (South) to part 660, subpart F are revised to read as follows:

[FR Doc. 2013-29021 Filed 11-29-13; 4:15 pm]

BILLING CODE 3510-22-C